DEPARTMENT OF VETERANS AFFAIRS

Rehabilitation Research and Development Service Scientific Merit Review Board, Notice of Meetings

The Department of Veterans Affairs (VA) gives notice under the Federal Advisory Committee Act, that the subcommittees of the Rehabilitation Research and Development Service Scientific Merit Review Board will he held Tuesday, August 6 through Friday, August 9, 2019, at the 20 F Conference Center, 20 F Street NW, Washington, DC 20001; and Tuesday, October 29 and Wednesday, October 30, 2019, at the Crowne Plaza Washington National Airport, 1480 Crystal Drive, Arlington, VA 22202. The meetings will begin at 8:00 a.m. and end at 5:00 p.m., on the dates listed below:

Meeting | Date(s)
Chronic Medical Conditions and Aging | August 6, 2019.
Spinal Cord Injury/Disorders and Neuropathic Pain | August 6, 2019.
Behavioral Health and Social Reintegration | August 6-7, 2019.
Career Development Program | August 6-7, 2019.
Sensory Systems and Communication Disorders | August 7, 2019.
Regenerative Rehabilitation | August 8, 2019.
Rehabilitation Engineering and Prosthetics/Orthotics | August 8, 2019.
Brain Health and Injury | August 8-9, 2019.
Musculoskeletal Health and Function | August 8-9, 2019.
Center and Research Enhancement Award Program | October 29-30, 2019.

The subcommittee meetings will be open to the public for approximately one-half hour at the start of each meeting to cover administrative matters and to discuss the general status of the program.

The objective of the Board is to provide for the fair and equitable selection of the most meritorious research projects for support by VA research funds and to offer advice for research program officials on program priorities and policies. The ultimate objective of the Board is to ensure that the VA Rehabilitation Research and Development program promotes functional independence and improves the quality of life for impaired and disabled Veterans.

Board members advise the Director, Rehabilitation Research and Development Service and the Chief Research and Development Officer on the scientific and technical merit, the mission relevance, and the protection of human and animal subjects of Rehabilitation Research and Development proposals. The Board does not consider grants, contracts, or other forms of extramural research.

Members of the public who wish to attend the open portion of the teleconference sessions may dial 1 (800) 767-1750, participant code 35847. The remaining portion of each subcommittee meeting will be closed to the public for the discussion, examination, reference to, and oral review of the research applications and critiques. During the closed portion of each subcommittee meeting, discussion and recommendations will include qualifications of the personnel conducting the studies (the disclosure of which would constitute a clearly unwarranted invasion of personal privacy), as well as research information (the premature disclosure of which would likely compromise significantly the implementation of proposed agency action regarding such research projects). As provided by subsection 10(d) of Public Law 92-463, as amended by Public Law 94-409, closing the meeting is in accordance with 5 U.S.C. Sec. 552b(c)(6) and (9)(B).

No oral or written comments will be accepted from the public for either portion of the meetings. Those who plan to attend (by phone or in person) the open portion of a subcommittee meeting must contact Tiffany Asqueri, Designated Federal Officer, Rehabilitation Research and Development Service, at Department of Veterans Affairs (10X2R), 810 Vermont Avenue NW, Washington, DC 20420, or email Tiffany.Asqueri@va.gov, at least five days before the meeting. For further information, please call Mrs. Asqueri at (202) 443-5757.

Dated: July 19, 2019.
LaTonya L. Small,
Federal Advisory Committee Management Officer.

[FR Doc. 2019-15779 Filed 7-24-19; 8:45 am]

BILLING CODE P